DEPARTMENT OF THE INTERIOR

Bureau of Land Management

[LLOR015000 L14300000 EU0000; OR-65259; HAG-09-0086]

Proposed Sale of Public Lands, Oregon

AGENCY: Bureau of Land Management (BLM), Lakeview District, Oregon.

ACTION: Notice of realty action.

SUMMARY: This notice announces the sale of one parcel of public land totaling 40 acres in Lake County, Oregon, by direct sale procedures and at not less than appraised market value. The parcel proposed for sale is identified as suitable for disposal in the Lakeview Resource Management Plan and Record of Decision dated November 2003, as amended.

ADDRESSES: Address all written comments to Thomas E. Rasmussen, Field Manager, Lakeview Resource Area Office, 1301 South G Street, Lakeview, Oregon 97630. Comments submitted verbally or in electronic format will not be accepted.

SUPPLEMENTARY INFORMATION: The following described public land in Lake County, Oregon, has been examined and found suitable for sale under Sections 203 and 209 of the Federal Land Policy Act of 1976 (43 U.S.C. 1713 and 1719).

Willamette Meridian, Oregon

T.29S., R.17E.,

Section 24: NW¼NW¼.

The area described contains 40 acres and will be sold by direct sale to Ernest and Dixie Shuffield at not less than the appraised market value of $30,000.

In accordance with 43 CFR 2711.3-3(a)(5), direct sale procedures are appropriate to resolve inadvertent unauthorized use or occupancy of the land. Currently, portions of the sale parcel are being used in conjunction with the Shuffield residence as a fenced storage area and are under cultivation for alfalfa hay. All improvements to the parcel were constructed/developed either by the Shuffields or their predecessors and have encumbered the sale parcel for over 50 years.

Federal law requires that public land may be sold only to either (1) Citizens of the United States 18 years of age or older; (2) corporations subject to the laws of any State or of the United States; (3) other entities such as an association or a partnership capable of holding land or an interest therein under the laws of the State within which the land is located; or (4) a State, State instrumentality or political subdivision authorized to hold property. Certifications and evidence to this effect will be required of the purchaser prior to issuance of a patent.

The following rights, reservations, and conditions will be included in the patent that may be issued for the above described parcel of land:

1. A reservation to the United States for a right-of-way for ditches and canals constructed by the authority of the United States. Act of August 30, 1890 (43 U.S.C. 945).

2. A reservation to the United States for all leasable minerals including oil, gas and geothermal resources in the land in accordance with Section 209 of the Federal Land Policy and Management Act of 1976 (43 U.S.C. 1719).

3. The patent will include a notice and indemnification statement under the Comprehensive Environmental Response, Compensation and Liability Act. The parcel is subject to the requirements of section 120(h) (42 U.S.C. Section 9620) holding the United States harmless from any release of hazardous materials that may have occurred as a result of the unauthorized use of the property by other parties. No Warranty of any kind, express or implied, is given by the United States as to the title, physical condition or potential uses of the parcel of land proposed for sale.

4. Subject to such rights as Lake County or its successors in interest may have for roadway purposes pursuant to right-of-way, OR 49313.

5. Subject to such rights as CenturyTel of Eastern Oregon or its successors in interest may have for buried telephone cable purposes pursuant to right-of-way, OR 45023.

6. The parcel is subject to valid existing rights.

The mineral interests being offered for conveyance have no known mineral value. Consent to purchase constitutes an application for conveyance of the mineral interests. In addition to the full purchase price, the Shuffields must submit a nonrefundable filing fee of $50 for purchase of the mineral interests to be conveyed simultaneously with the sale of the land with the exception of all leasable minerals, including oil, gas and geothermal resources, which will be reserved to the United States in accordance with Section 209 of the Federal Land Policy and Management Act of 1976 (43 U.S.C. 1719).

On March 3, 2009, the above described lands will be segregated from appropriation under the public land laws, including the mining laws, except the sale provisions of the Federal Land Policy and Management Act of 1976 (43 U.S.C. 1713). Until completion of the sale, the Bureau of Land Management is no longer accepting land use applications affecting the identified public lands, except applications for the amendment of previously filed right-of-way applications or existing authorizations to increase the term of existing grants in accordance with 43 CFR 2807.15 and 2886.15. The effect of segregation will terminate upon issuance of a patent, upon publication in the Federal Register of a termination of the segregation, or March 3, 2011, unless extended by the Bureau of Land Management, State Director, in accordance with 43 CFR 2711.1-2(d) prior to the termination date.

The Shuffields will be allowed 30 days from receipt of a written offer to submit either full payment or at least 20 percent of the appraised value of the parcel and within 180 days, thereafter, submit the balance. If the balance of the purchase price in not received within the 180 days, the deposit will be forfeited to the United States and the parcel withdrawn from sale.

Public Comments: On or before April 17, 2009, any person may submit written comments regarding the proposed sale to the Bureau of Land Management, Lakeview Resource Area Office, 1301 South G Street, Lakeview, Oregon 97630.

Comments, including names, street addresses, and other contact information of respondents, will be available for public review. Individual respondents may request confidentiality. If you wish to request that the Bureau of Land Management consider withholding your name, street address, and other contact information (such as Internet address, FAX or phone number) from public review or from disclosure under the Freedom of Information Act, you must state this prominently at the beginning of your comment. The Bureau of Land Management will honor requests for confidentiality on a case-by-case basis to the extent allowed by law. The Bureau of Land Management will make available for public inspection in their entirety all submissions from organizations or businesses, and from individuals identifying themselves as representatives or officials of organizations or businesses.

Detailed information concerning the sale, including the appraisal, planning and environmental documents, and mineral report is available for review at the Bureau of Land Management, Lakeview Resource Area Office, 1301 South G Street, Lakeview, Oregon 97630, during business hours. Objections will be reviewed by the Bureau of Land Management, Lakeview District Manager who may sustain, vacate, or modify this realty action. In the absence of any objections, this proposal will become the final determination of the Department of the Interior.

(Authority: 43 CFR 2711.1-2).

FOR FURTHER INFORMATION CONTACT: Dan Stewardson, Realty Specialist, at the Lakeview Resource Area Office, 1301 South G Street, Lakeview, Oregon 97630 or phone (541) 947-6115.

Dated: February 11, 2009.
Thomas E. Rasmussen,
Field Manager, Lakeview Resource Area.

[FR Doc. E9-4494 Filed 3-2-09; 8:45 am]

BILLING CODE 4310-33-P